FEDERAL COMMUNICATIONS COMMISSION

47 CFR Parts 1, 61, and 69

[CC Docket No. 96-128; DA 03-4027]

Implementation of Pay Telephone Reclassification and Compensation Provisions of the Telecommunications Act of 1996

AGENCY: Federal Communications Commission.

ACTION: Notice of proposed rulemaking; Comments requested.

SUMMARY: The Commission seeks comments on a Petition For Rulemaking or, in the Alternative, Petition To Address Referral Issues In A Pending Rulemaking (Wright Petition) filed in CC Docket 96-128. In the Wright Petition, “Petitioners request that the Commission prohibit exclusive inmate calling service agreements and collect call-only restrictions at privately-administered prisons and require such facilities to permit multiple long distance carriers to interconnect with prison telephone systems.”

DATES: Comments are due on or before February 9, 2004, and reply comments are due on or before February 19, 2004.

ADDRESSES: Federal Communications Commission, Marlene H. Dortch, Office of the Secretary, 445 12th Street SW., TW-A325, Washington, DC 20554. See Supplementary Information for information on additional instructions for filing paper copies.

FOR FURTHER INFORMATION CONTACT: Joi Roberson Nolen, Wireline Competition Bureau, 202-418-1520.

SUPPLEMENTARY INFORMATION: On November 3, 2003, Martha Wright and other prison inmate and non-inmate petitioners (collectively, Petitioners) filed a Petition For Rulemaking or, in the Alternative, Petition To Address Referral Issues In A Pending Rulemaking (Wright Petition) with the Federal Communications Commission (Commission). In the Wright Petition, “Petitioners request that the Commission prohibit exclusive inmate calling service agreements and collect call-only restrictions at privately-administered prisons and require such facilities to permit multiple long distance carriers to interconnect with prison telephone systems.” Petitioners support the Wright Petition with evidence that it is technically feasible to provide such interconnection and provide for all necessary security and other penological needs. Petitioners originally sought relief regarding this issue in Wright, et al. v. Corrections Corporation of America, et al., which was referred to the Commission under the doctrine of primary jurisdiction. See Wright v. Corrections Corp. of America, C.A. No. 00-293 (GK) (D.D.C. Aug. 22, 2001). The Commission is currently examining long distance telephone service rates imposed on inmates and their families in an ongoing proceeding regarding the provision of inmate payphone service. See Implementation of Pay Telephone Reclassification and Compensation Provisions of the Telecommunications Act of 1996, CC Docket No. 96-128, Order on Remand and Notice of Proposed Rulemaking, 67 FR 17039 (2002) (Inmate Payphone Rulemaking).

The Wright Petition contains assertions that are responsive to issues raised in the Inmate Payphone Rulemaking. Thus, the Commission will consider the Wright Petition as an ex parte presentation in the Inmate Payphone Rulemaking. The Commission seeks comment on the Wright Petition because it raises important issues to be considered in the Inmate Payphone Rulemaking. Interested parties may file comments regarding the Wright Petition February 9, 2004 of this public notice. Reply comments may be filed February 19, 2004 of this public notice. In filing their pleadings, parties should reference the following docket number: CC Docket 96-128.

This matter shall be treated as a “permit-but-disclose” proceeding in accordance with the Commission's ex parte rules. See 47 CFR 1.1200, 1.1206. Persons making oral ex parte presentations are reminded that memoranda summarizing the presentations must contain summaries of the substance of the presentations and not merely a listing of the subjects discussed. More than a one- or two-sentence description of the views and arguments presented generally is required. See 47 CFR 1.1206(b). Other rules pertaining to oral and written ex parte presentations in permit-but-disclose proceedings are set forth in section 1.1206(b) of the Commission's rules, 47 CFR 1.1206(b).

Filing Procedures. Comments may be filed using the Commission's Electronic Comment Filing System (ECFS) or by filing paper copies. See Electronic Filing of Documents in Rulemaking Proceedings, 63 FR 24121 (1998). Comments filed through ECFS can be sent as an electronic file via the Internet to http://www.fcc.gov/cgb/ecfs/. Commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply.

Parties who choose to file by paper must file an original and four copies of each filing. If more than one docket or rulemaking number appear in the caption of this proceeding, commenters must submit two additional copies for each additional docket or rulemaking number. Filings can be sent by hand or messenger delivery, by commercial overnight courier, or by first-class or overnight U.S. Postal Service mail (although we continue to experience delays in receiving U.S. Postal Service mail).

The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

Commercial overnight mail (other than U.S. Postal Service Express Mail and Priority Mail) must be sent to 9300 East Hampton Drive, Capitol Heights, MD 20743. U.S. Postal Service first-class mail, Express Mail, and Priority Mail should be addressed to 445 12th Street SW., Washington, DC 20554.

All filings must be addressed to the Commission's Secretary, Marlene H. Dortch, Office of the Secretary, Federal Communications Commission, 445 12th St. SW., Suite TW-A325, Washington, DC 20554.

Two (2) copies of the comments and reply comments should also be sent to Deena Shetler, Deputy Division Chief, Pricing Policy Division, Wireline Competition Bureau, Federal Communications Commission, 445 12th Street, SW., Room 5-A221, Washington, DC 20554. Parties are also requested to send a courtesy copy via e-mail to Joi Nolen, Pricing Policy Division, Wireline Competition Bureau, Federal Communications Commission, at joi.nolen@fcc.gov.

Parties shall also serve one copy with Qualex International, Portals II, 445 12th Street, SW., Room CY-B402, Washington, DC 20554, (202) 863-2893, or via email to qualexint@aol.com.

All documents in CC Docket No. 96-128, including the Wright Petition are available for public inspection and copying during business hours at the FCC Reference Information Center, Portals II, 445 12th St. SW., Room CY-A257, Washington, DC 20554. The documents may also be purchased from Qualex International, telephone (202) 863-2893, facsimile (202) 863-2898.

Federal Communications Commission.
Marlene H. Dortch,
Secretary.

[FR Doc. 04-1125 Filed 1-16-04; 8:45 am]

BILLING CODE 6712-01-P